DEPARTMENT OF HEALTH AND HUMAN SERVICES

Centers for Disease Control and Prevention

[Program Announcement: 03039]

Cooperative Agreement Training, Education, and Materials Development Regarding Terrorism Acts; Notice of Availability of Funds

A. Authority and Catalog of Federal Domestic Assistance Number

This program is authorized under section 301(a) and 317(a) of the Public Health Service Act, 42 U.S.C. sections 241(a) and 247b(a), as amended. The Catalog of Federal Domestic Assistance number is 93.283.

B. Purpose

The Department of Health and Human Services, Centers for Disease Control and Prevention (CDC) announces the availability of fiscal year (FY) 2003 funds for a cooperative agreement for development, implementation, and dissemination of effective terrorism preparedness and emergency response training and education programs. This program addresses the “Healthy People 2010” focus areas Immunization and Infectious Disease, Environmental Health, and Public Health Infrastructure.

The purpose of the program is to enhance the national security of the United States by improving the flow of timely and accurate information to the American general public. This will be accomplished by creating and maintaining a national training program for local community based organizations (CBOs) to develop their capacity to deliver effective terrorism preparedness education.

Measurable outcomes of the program will be in alignment with one or more of the following performance goals: help the American public to prepare for the unexpected; and reduce stress and make the public feel at ease should another emergency arise.

C. Eligible Applicants

Applications may be submitted by national non-profit and faith-based organizations with experience providing training services nationwide.

Note: Title 2 of the United States Code section 1611 states that an organization described in section 501(c)(4) of the Internal Revenue Code that engages in lobbying activities is not eligible to receive Federal funds constituting an award, grant or loan.

D. Funding

Availability of Funds

Approximately $1,000,000 is available in FY 2003, to fund one award. It is expected that the award will begin on or about March 30, 2003 and will be made for a 12-month budget period within a project period of up to five years. Funding estimates may change.

Continuation awards within an approved project period will be made on the basis of satisfactory progress as evidenced by required reports and the availability of funds.

Use of Funds

Funds may not be used to provide for direct patient medical care (e.g., ongoing medical management, medications, etc.)

Recipient Financial Participation

Matching funds are not required for this program.

E. Program Requirements

In a cooperative agreement, CDC and the recipient of Federal funds share roles and responsibilities. In conducting activities to achieve the purpose of this program, the recipient will be responsible for the activities listed in 1. Recipient Activities, and CDC will be responsible for the activities listed in 2. CDC Activities.

1. Recipient Activities

a. Terrorism Preparedness Training and Education: Develop specific, measurable, and time-phased objectives for the execution of terrorism preparedness and emergency response training and education programs.

b. Develop Terrorism Preparedness Training and Education Programs: Collaborate with CDC to develop terrorism preparedness and emergency response training programs and material based on up-to-date information that is scientifically relevant and substantiated by valid behavioral science theory or empirical research.

c. Implement Terrorism Preparedness and Emergency Response Training and Education Programs: Provide training and technical assistance to local CBOs on conducting effective terrorism preparedness and emergency response education interventions.

d. Support collaboration with CBOs and other local providers to implement effective terrorism preparedness and emergency response education interventions. Terrorism preparedness and emergency response activities should be appropriate to the experience and resources of the affiliate and consistent with the unmet needs and priorities outlined in the state and local health department's comprehensive terrorism preparedness and emergency response community planning process.

e. Develop collaborative relationships and linkages with behavioral and social scientists, national and local non-governmental organizations, state and local health departments, and other individuals and organizations that can assist in the accomplishment of the purpose of this cooperative agreement.

f. Evaluate Terrorism Preparedness and Emergency Response Training and Education Programs: Develop and implement an evaluation plan that describes how the accomplishment of the program objective at the national and local levels will be measured. The plan must include (a) a description of methods for monitoring program delivery; and (b) methods to measure outcome objectives for program improvement.

g. Conduct formative and summative evaluation as part of the instructional development process when designing program materials.

h. Design and implement systems to ensure training and education program quality.

i. Conduct process evaluation annually on program implementation and outcome evaluation on selected training and education programs periodically.

2. CDC Activities

a. Office of Terrorism Preparedness and Response (OPTR) shall provide consultation and technical assistance in the planning, development, implementation, and evaluation of program activities (i.e. training materials, identification and community-based organizations).

b. Depending on requirements, CDC Centers, Institutes, and Offices (CIOs), in close collaboration with OTPR, will provide up-to-date scientific information on the risk factors for terrorism preparedness, prevention measures, scientific research on behavioral intervention, and program strategies for terrorism preparedness. The CIOs include: The Agency for Toxic Substances and Disease Registry (ATSDR), the National Center for Environmental Health (NCEH), The National Center for Infectious Diseases (NCID), the National Immunization Program (NIP), The Public Health Practice Program Office (PHPPO), and The Epidemiology Program Office (EPO).

c. OTPR Senior Management will assist the grantee in collaborating with behavioral and social scientists, national and local non-governmental organizations, State and local health departments, community planning groups, other federally supported terrorism preparedness programs, and organizations that can assist the grantee in the accomplishment of the purpose of this cooperative agreement.

d. OTPR Senior Staff will facilitate the adoption and adaptation of effective education interventions and program models through meetings, workshops, conferences, newsletters, and communication with the project officer.

e. OTPR Senior Staff will provide program descriptions from research synthesis, scientific review, program feasibility activities, and CDC Scientific panels to be used in the development of terrorism preparedness and emergency response training and education programs.

f. OTPR Senior Staff will assist in the development of terrorism preparedness and emergency response training programs and materials based on empirical data on intervention effectiveness.

g. OTPR Senior Staff will assist the grantee in the dissemination of new programs by providing access to CDC partners in terrorism preparedness and emergency response.

F. Content

Letter of Intent (LOI)

A LOI is not required for this program.

Application

The program announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of, at a minimum, a Plan, Objectives, Methods, Evaluation and Budget.

G. Submission and Deadline

Application Forms

Submit the signed original and two copies of PHS form 5161. Forms are available at the following Internet address: www.cdc.gov/od/pgo/forminfo.htm

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time March 14, 2003. Submit the application to: Technical Information Management-PA03039, CDC Procurement and Grants Office, 2920 Brandywine Road, Atlanta, GA 30341-4146.

Applications may not be submitted electronically.

CDC Acknowledgement of Application Receipt

A postcard will be mailed by PGO-TIM, notifying you that CDC has received your application.

Deadline

Applications will be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Technical Approach (30 Points)

The extent to which the application addresses:

a. An overall design strategy, including measurable time lines.

b. The relationship between activities and objectives.

c. Description of the management and analysis of data collected for meeting objectives.

2. Ability to Carry Out the Project (30 Points)

The extent to which the applicant provides evidence of their ability to carry out the proposed activity or project and the extent to which the applicant documents the demonstrated capability to achieve the purpose of this project.

3. Understanding of the Need or Problem (20 Points)

The extent to which the applicant demonstrates a clear, concise understanding of the need or problem to be addressed.

a. Extent to which the applicant specifically includes a description of the public health importance of the planned activities to be undertaken.

b. Extent to which the applicant provides a realistic presentation of the proposed project.

4. Personnel (10 Points)

The extent to which professional personnel involved in this activity or project are qualified, including evidence of prior experience similar to this activity or project. (Complete C.V. should be provided for professional and senior administrative staff; relevant training and experience should be highlighted). If a position is vacant, a position description and complete description of required qualifications for that position are to be included in the application along with a specific plan (including time line) for hiring.

5. Management Plan (10 Points)

The extent to which the applicant provides a description of the systems and the procedures that will be used to manage the progress, budget and operations of the activity or project.

6. Budget (Not Scored)

Extent to which the budget is reasonable, clearly justified, and consistent with the intended use of cooperative agreement funds.

I. Other Requirements

Technical Reporting Requirements

Provide CDC with the original plus two copies of:

1. Interim progress report, no less than 90 days before the end of the budget period. The progress report will serve as your non-competing continuation application, and must contain the following elements:

a. Current Budget Period Activities Objectives. Describe quantified progress in achieving objectives, as well as relevant evaluation findings, changes or adjustments in objectives resulting from evaluation findings, and reasons for not attaining an objective.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period. Send all reports to the Grants Management Specialist identified in the “Where to Obtain Additional Information” section of this announcement.

Additional Requirements

The following additional requirements are applicable to this program. For a complete description of each, see Attachment I of the program announcement as posted on the CDC Web site.

AR-1 Human Subjects Requirements

AR-7 Executive Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

AR-14 Accounting System Requirements

AR-15 Proof of Non-Profit Status

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Rd, Room 3000, Atlanta, GA 30341-4146, Telephone: 770-488-2700.

For business management and budget assistance, contact: Sharon Robertson, Grants Management Specialist, Procurement and Grants Office, Centers for Disease Control and Prevention, 2920 Brandywine Road, Room 3000, Atlanta, GA 30341-4146, Telephone: 770-488-2748, E-mail: sqr2@cdc.gov.

For program technical assistance, contact: Amy Loy, Office of Terrorism Preparedness and Response, Centers for Disease Control and Prevention, 1600 Clifton Road, Atlanta, GA 30333, Telephone: 404-639-7855, E-mail: anl6@cdc.gov.

Dated: January 22, 2003.
Sandra R. Manning,
CGFM Director, Procurement and Grants Office, Centers for Disease Control and Prevention.

[FR Doc. 03-1824 Filed 1-27-03; 8:45 am]

BILLING CODE 4163-18-P